Presidential Determination No. 2016-14 of September 28, 2016

Presidential Determinations With Respect to the Child Soldiers Prevention Act of 2008

Memorandum for the Secretary of State

Pursuant to section 404(c) of the Child Soldiers Prevention Act of 2008, as amended (CSPA) (22 U.S.C. 2370c-1), I hereby determine that it is in the national interest of the United States to waive the application of the prohibition in section 404(a) of the CSPA with respect to Burma, Iraq, and Nigeria; and to waive in part the application of the prohibition in section 404(a) of the CSPA with respect to the Democratic Republic of the Congo (DRC) to allow for provision of International Military Education and Training (IMET) and Peacekeeping Operations (PKO) assistance to build the DRC military's capacity to respond to critical atrocity prevention priorities in the region such as countering the Lord's Resistance Army and other armed groups, to the extent such assistance or support would be restricted by the CSPA; to waive in part the application of the prohibition in section 404(a) of the CSPA with respect to Rwanda to allow for the provision of IMET, PKO assistance, and non-lethal Excess Defense Articles for humanitarian and peacekeeping purposes, to the extent such assistance or support would be restricted by the CSPA; to waive in part the application of the prohibition in section 404(a) with respect to Somalia to allow for the provision of IMET, PKO assistance, and support provided pursuant to 10 U.S.C. 2282, to the extent such assistance or support would be restricted by the CSPA; and to waive in part the application of the prohibition in section 404(a) with respect to South Sudan to allow for the provision of IMET, PKO assistance, and support provided pursuant to section 1208 of the National Defense Authorization Act for Fiscal Year 2014 (Public Law 113-66), to the extent such assistance or support would be restricted by the CSPA. I hereby waive such provisions accordingly.

You are hereby authorized and directed to submit this determination to the Congress along with the accompanying Memorandum of Justification, and to publish the determination in the Federal Register.

THE WHITE HOUSE,

Washington, September 28, 2016

[FR Doc. 2016-25685

Filed 10-20-16; 8:45 am]

Billing code 4710-10-P